DEPARTMENT OF THE INTERIOR

National Park Service

Fire Management Plan, Environmental Impact Statement, Carlsbad Caverns National Park, New Mexico

AGENCY: National Park Service, Department of the Interior.

ACTION: Notice of intent to prepare an environmental impact statement for the Fire Management Plan for Carlsbad Caverns National Park.

SUMMARY: Under the provisions of the National Environmental Policy Act of 1969, the National Park Service is preparing an environmental impact statement for the Fire Management Plan for Carlsbad Caverns National Park. This effort will result in a new wildland fire management plan that meets current policies, provides a framework for making fire-related decisions, and serves as an operational manual. Development of a new fire plan is compatible with the broader goals and objectives derived from the park purpose that governs resources management. Alternatives to be considered include: (1) No-action, (2) a fully integrated fire management plan with all strategies available for use, and (3) a plan allowing limited prescribed burning and not allowing lightning-started fires (wildland fire use). The no-action alternative maintains the current 1995 fire management plan strategy of suppression, wildland fire use, and prescribed burning. The proposed fully integrated plan alternative defines a relatively small fire management unit (FMU) surrounding the visitor center area, facilities, residences, and the area of the park adjacent to Whites City. This FMU applies full suppression and prescribed burning. The rest of the park comprises the second FMU, in which wildland fire use, prescribed fire, and suppression are management options. This second FMU specifies protection measures for special features, such as habitat of threatened and endangered species and sensitive cultural resources. The limited prescribed burning alternative does not allow wildland fire use. Conservative use of prescribed fire for fuels management or research is an option.

Major issues are environmental effects of the FMP that are potential problems. These include: protection of cultural resources, protection of plant and wildlife habitats, effects on non-native species, habitat protection for threatened and endangered species, protection of park neighbors' property, reducing impacts to park visitors, protection of life and property, effects on tourism, and changes in landscape-scale vegetation patterns.

A scoping brochure has been prepared describing the issues identified to date. Copies of the brochure may be obtained from Superintendent, Carlsbad Caverns National Park, 3225 National Parks Hwy., Carlsbad, New Mexico 88220.

DATES: The scoping period will be 30 days from the date this notice is published in the Federal Register.

ADDRESSES: Information will be available for public review and comment in the office of the Superintendent, Mary Gibson Scott, 3225 National Parks Highway, Carlsbad, NM 88220, (505) 785-2232 ext. 320.

FOR FURTHER INFORMATION CONTACT: Contact Superintendent, Carlsbad Caverns National Park, (505) 785-2232 x320.

SUPPLEMENTARY INFORMATION: If you wish to comment on the scoping brochure or on any other issues associated with the plan, you may submit your comments by any one of several methods. You may mail comments to Superintendent, Carlsbad Caverns National Park, 3225 National Parks Hwy., Carlsbad, New Mexico 88220. You may also comment via the Internet to CAVE_superintendent@nps.gov. Please submit Internet comments as an ASCII file avoiding the use of special characters and any form of encryption. Please also include “Attn: Carlsbad Fire Management Plan” and your name and return address in your Internet message. If you do not receive a confirmation from the system that we have received your Internet message, contact us directly at Resources Stewardship and Science at (505) 785-2232 x380. Finally, you may hand-deliver comments to the above address or at public meetings that will be held in Carlsbad and Queen, New Mexico. The schedule for these public meetings is included in the scoping brochure.

Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: September 23, 2002.
Michael Snyder,
Director, Intermountain Region, National Park Service.

[FR Doc. 02-29026 Filed 11-14-02; 8:45 am]

BILLING CODE 4310-10-P